DEPARTMENT OF EDUCATION

Financial Value Transparency and Gainful Employment: List of Approved Classification of Instructional Program (CIP) Codes for Qualifying Graduate Programs; Correction

AGENCY: Office of Postsecondary Education, Department of Education.

ACTION: Notice; correction.

SUMMARY: The Secretary corrects two codes in the list of applicable CIP codes for qualifying graduate programs that have an extended earnings measurement period under the Financial Value Transparency (FVT) and Gainful Employment (GE) regulations.

DATES: This correction is effective July 26, 2024.

FOR FURTHER INFORMATION CONTACT: Joseph Massman, U.S. Department of Education, 400 Maryland Avenue SW, Washington, DC 20202. Email: GE24@ed.gov. Telephone: (202) 453-7771.

If you are deaf, hard of hearing, or have a speech disability and wish to access telecommunications relay services, please dial 7-1-1.

SUPPLEMENTARY INFORMATION: On June 28, 2024 (89 FR 53986), the Department of Education (Department) published a list in the Federal Register that identified graduate programs under their respective CIP codes as being potentially eligible to be considered a qualified graduate program under the FVT/GE regulations. In publishing that list, the Department inadvertently used two codes from the 2010 CIP codes list instead of the updated 2020 CIP codes list. The Department corrects those two codes below. The Department also corrects an erroneous program authority citation.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site. You may also access documents of the Department published in the Federal Register by using the article search feature at www.federalregister.gov. Specifically, through the advanced search feature at this site, you can limit your search to documents published by the Department.

Corrections

In FR Doc. No. 2024-14217, published in the Federal Register on June 28, 2024 (89 FR 53986), we make the following corrections:

1. On page 53987, in the middle column under the heading “Medicine, Osteopathy, Dentistry”:

a. Changing “51.1901” to “51.1202”.

b. Changing “51.2101” to “51.1203”.

2. On page 53988, in the first column under the heading “Program Authority” changing “20 U.S.C. 1087 et seq.” to “34 CFR 668.2 and 34 CFR part 668 subpart Q”.

Nasser Paydar,
Assistant Secretary for the Office of Postsecondary Education.

[FR Doc. 2024-16509 Filed 7-25-24; 8:45 am]

BILLING CODE 4000-01-P